Title 3—

The President

Proclamation 9632 of August 30, 2017

National Preparedness Month, 2017

By the President of the United States of America

A Proclamation

During National Preparedness Month, we bring attention to the importance of readying ourselves for disasters, both natural and man-made. We also take this time to extend our sincerest gratitude to first responders, who selflessly run toward danger to keep our Nation and its people safe. We vow to support them and provide the tools they need to save lives.

This year marks the 5-year anniversary of Hurricane Sandy, which ravaged the Northeast; the 10-year anniversary of the Enhanced Fujita (EF) level-5 tornado that leveled 95 percent of the Greensburg, Kansas, community; and the 25-year anniversary of Hurricane Andrew, the most destructive hurricane in Florida's history. And, this week we are especially mindful of those affected by the catastrophic Hurricane Harvey, which brought historic floods to Texas. While these tragedies underscore our vulnerabilities, they also remind us of our Nation's great resilience. In the responses to each of these unexpected disasters, we have seen the character of the American spirit—courageousness, determination, and generosity.

This month we recognize that by educating the Nation on how to prepare and respond to emergencies, we can save countless lives. Unfortunately, fewer than half of American families report having an emergency response plan. While we never know when the next disaster will strike, it is incumbent upon every American to be prepared.

Americans can start today to improve our readiness for the next disaster. The first steps include making and practicing a family emergency response plan, creating an emergency supply kit, and signing up for emergency alerts. The Federal Emergency Management Agency's Ready campaign outlines additional important and low-cost measures Americans can take right now to protect their family, pets, and property before a major disaster. Together, we will create a stronger and safer Nation.

NOW, THEREFORE, I, DONALD J. TRUMP, President of the United States of America, by virtue of the authority vested in me by the Constitution and the laws of the United States, do hereby proclaim September 2017 as National Preparedness Month. I encourage all Americans, including Federal, State, and local officials, to take action to be prepared for disaster or emergency by making and practicing their plans. Each step we take to become better prepared will make a real difference in how our families and communities will respond and persevere when faced with the unexpected.

IN WITNESS WHEREOF, I have hereunto set my hand this thirtieth day of August, in the year of our Lord two thousand seventeen, and of the Independence of the United States of America the two hundred and forty-second.

[FR Doc. 2017-18951

Filed 9-1-17; 11:15 am]

Billing code 3295-F7-P